DEPARTMENT OF COMMERCE

National Oceanic and Atmospheric Administration

15 CFR Part 922

Revisions of Boundaries for the Thunder Bay National Marine Sanctuary and Underwater Preserve; Intent To Prepare Draft Environmental Impact Statement; Scoping Meetings

AGENCY: Office of National Marine Sanctuaries (ONMS), National Ocean Service (NOS), National Oceanic and Atmospheric Administration (NOAA), Department of Commerce (DOC).

ACTION: Notice of intent to revise boundaries; intent to prepare environmental impact statement; scoping meetings.

SUMMARY: In accordance with section 304(e) of the National Marine Sanctuaries Act, as amended, (NMSA) (16 U.S.C. 1431 et seq.), the Office of National Marine Sanctuaries (ONMS) of the National Oceanic and Atmospheric Administration (NOAA) has initiated a review of the Thunder Bay National Marine Sanctuary and Underwater Preserve (TBNMS or sanctuary) boundaries, to evaluate the opportunity and effects of expanding the sanctuary's boundary. The process required by NMSA will be conducted concurrently with a public process under the National Environmental Policy Act (NEPA; 42 U.S.C. 4321 et seq.). This notice also informs the public that NOAA will coordinate its responsibilities under section 106 of the National Historic Preservation Act (NHPA, 16 U.S.C. 470) with its ongoing NEPA process, pursuant to 36 CFR 800.8(a) including the use of NEPA documents and public and stakeholder meetings to also meet the requirements of section 106. NOAA anticipates completion of the final environmental impact statement and concomitant documents will require approximately twelve months from the date of publication of this notice of intent.

DATES: Comments must be received by May 25, 2012. Dates for scoping meetings are:

1. April 17, 2012.

2. April 18, 2012.

3. April 19, 2012.

ADDRESSES: Comments may be submitted by any one of the following methods:

• Federal eRulemaking Portal: http://www.regulations.gov. Submit electronic comments via the Federal eRulemaking Portal with Docket Number NOAA-NOS-2012-0077.

• Mail: Jeff Gray, Sanctuary Superintendent, Thunder Bay National Marine Sanctuary, 500 West Fletcher Street, Alpena, MI 49707.

Instructions

All comments received are a part of the public record. All Personal Identifying Information (for example, name, address, etc.) voluntarily submitted by the commenter may be publicly accessible. Do not submit confidential business information or otherwise sensitive or protected information. NOAA will accept anonymous comments (enter N/A in the required fields to remain anonymous). Attachments to electronic comments will be accepted in Microsoft Word, Excel, WordPerfect, or Adobe PDF file formats only.

FOR FURTHER INFORMATION CONTACT: Ellen Brody, Great Lakes Regional Coordinator, Telephone: (734) 741-2270.

SUPPLEMENTARY INFORMATION:

Background Information

In 2000, NOAA designated the 448-square-mile Thunder Bay National Marine Sanctuary (TBNMS or sanctuary), which is jointly managed by NOAA and the State of Michigan (65 FR 39041). The sanctuary's mission is to preserve nationally significant shipwrecks and other maritime heritage resources through resource protection, education, and research. Well-preserved by Lake Huron's cold, fresh water, these shipwrecks span a century and a half of Great Lakes maritime history and include virtually all types of vessels used on the Great Lakes. Within the existing sanctuary boundary are approximately one hundred shipwrecks.

NOAA has received a number of comments expressing interest in expanding the sanctuary's boundary to include the waters adjacent to Alcona and Presque Isle Counties since the scoping process in 2006 for the sanctuary's management plan review. Several local government and non-governmental organizations passed resolutions or submitted written letters of support for boundary expansion (see www.thunderbay.noaa.gov/management/mpr/boundexp for copies of those documents). In 2007, the Thunder Bay Sanctuary Advisory Council adopted a resolution to increase the boundary to include Alcona, Alpena, and Presque Isle Counties to the international border with Canada to provide protection for those known maritime heritage resources and those yet to be discovered. The expanded sanctuary could include all or part of a study area proposed by the Thunder Bay Sanctuary Advisory Council. The study area for possible expansion contains approximately one hundred shipwrecks. Among them are a number of historically, archaeologically, and recreationally significant shipwrecks not currently included in the sanctuary.

The sanctuary's final management plan (2009) included the following strategy: “Evaluate and assess a proposed expansion of the sanctuary to a 3,662-square-mile area from Alcona County to Presque Isle County, east to the international border with Canada to protect, manage, and interpret additional shipwrecks and other potential maritime heritage resources.”

In accordance with Section 304(e) of the National Marine Sanctuaries Act, as amended (NMSA), 16 U.S.C. 1431 et seq., the Office of National Marine Sanctuaries (ONMS) of the National Oceanic and Atmospheric Administration (NOAA) is initiating a review of the Thunder Bay National Marine Sanctuary boundaries to “evaluate and assess a proposed expansion” for the sanctuary. Expanding the sanctuary boundary to include some of the best preserved shipwrecks in the Great Lakes would provide protection to maritime heritage resources under the NMSA. Designation as a sanctuary draws public attention to the fact that these cultural resources have national significance and inclusion in the national marine sanctuary system could provide additional opportunities for tourism and economic growth.

Review Process

The review process is composed of four primary stages:

1. Information collection and characterization, including public scoping meetings;

2. Preparation and release of a draft environmental impact statement (DEIS) as required by Section 304(a) of the NMSA that identifies boundary expansion alternatives, as well as a notice of proposed rulemaking (NPRM) to amend the sanctuary regulations to reflect any new boundary if proposed.

3. Public review and comment on the DEIS and NPRM; and

4. Preparation and release of a final environmental impact statement, including a response to public comments, with a final rule if appropriate.

NOAA anticipates that the completion of the final environmental impact statement and concomitant documents will require approximately twelve months.

At this time, NOAA is opening a public comment period to:

1. Gather information and public comments from individuals, organizations, and government agencies on whether TBNMS should expand its boundary, suggestions for the extent of an expanded boundary, and the potential effects of a boundary expansion;

2. Help determine the scope of issues to be addressed in the preparation of an environmental impact statement (EIS) pursuant to the National Environmental Policy Act (NEPA) (43 U.S.C. 4321 et seq.), if warranted; and

3. Conduct a series of public scoping meetings to collect public comment. The public scoping meeting schedule is presented below.

Public Scoping Meetings: The public scoping meetings will be held on the following dates and at the following locations beginning at 5:30 p.m. unless otherwise noted:

1. Alpena, MI

Date: April 17, 2012.

Location: Michigan Great Lakes Maritime Heritage Center.

Address: 500 W. Fletcher Street, Alpena, MI 49707.

2. Rogers City, MI

Date: April 18, 2012.

Location: Presque Isle District Library.

Address: 181 East Erie Street, Roger City, MI 49779.

3. Harrisville, MI

Date: April 19, 2012.

Location: Alcona County EMS Building.

Address: 2600 E. M-72, Harrisville, MI 48740.

Consultation Under National Historic Preservation Act

This notice confirms that NOAA will fulfill its responsibility under section 106 of the National Historic Preservation Act (NHPA, 16 U.S.C. 470) through the ongoing NEPA process, pursuant to 36 CFR 800.8(a) including the use of NEPA documents and public and stakeholder meetings to meet the section 106 requirements. The NHPA specifically applies to any agency undertaking that may affect historic properties. Pursuant to 36 CFR 800.16(1)(1), historic properties includes: “Any prehistoric or historic district, site, building, structure or object included in, or eligible for inclusion in, the National Register of Historic Places maintained by the Secretary of the Interior. The term includes artifacts, records, and remains that are related to and located within such properties. The term includes properties of traditional religious and cultural importance to an Indian tribe or Native Hawaiian organization and that meet the National Register criteria.”

In fulfilling its responsibility under the NHPA and NEPA, NOAA intends to identify consulting parties; identify historic properties and assess the effects of the undertaking on such properties; initiate formal consultation with the State Historic Preservation Officer, the Advisory Council of Historic Preservation, and other consulting parties; involve the public in accordance with NOAA's NEPA procedures, and develop in consultation with identified consulting parties alternatives and proposed measures that might avoid, minimize or mitigate any adverse effects on historic properties and describe them in any environmental assessment or draft environmental impact statement.

Authority: 16 U.S.C. 1431 et seq.; 16 U.S.C. 470.

Dated: April 3, 2012.
Daniel J. Basta,
Director for the Office of National Marine Sanctuaries.

[FR Doc. 2012-8831 Filed 4-11-12; 8:45 am]

BILLING CODE 3510-NK-P